DEPARTMENT OF THE INTERIOR

Office of Surface Mining Reclamation and Enforcement

Notice of Proposed Information Collection for 1029-0054 and 1029-0083

AGENCY: Office of Surface Mining Reclamation and Enforcement.

ACTION: Notice and request for comments.

SUMMARY: In compliance with the Paperwork Reduction Act of 1995, the Office of Surface Mining Reclamation and Enforcement (OSM) is announcing that the information collection requests for 30 CFR 872, Abandoned mine reclamation funds; and 30 CFR part 955 and the Form OSM-74, Certification of Blasters in Federal program States and on Indian lands have been forwarded to the Office of Management and Budget (OMB) for review and reauthorization. The information collection packages were previously approved and assigned clearance numbers 1029-0054 for 30 CFR 872, and 1029-0083 for 30 CFR 955 and the OSM-74 form. This notice describes the nature of the information collection activities and the expected burdens and costs.

DATES: OMB has up to 60 days to approve or disapprove the information collection but may respond after 30 days. Therefore, public comments should be submitted to OMB by July 25, 2008, in order to be assured of consideration.

ADDRESSES: Submit comments to the Office of Information and Regulatory Affairs, Office of Management and Budget, Attention: Department of Interior Desk Officer, by telefax at (202) 395-6566 or via e-mail to OIRA_Docket@omb.eop.gov. Also, please send a copy of your comments to John A. Trelease, Office of Surface Mining Reclamation and Enforcement, 1951 Constitution Ave., NW., Room 202-SIB, Washington, DC 20240, or electronically to jtrelease@osmre.gov.

FOR FURTHER INFORMATION CONTACT: To request a copy of the information collection requests, explanatory information and related forms, contact John A. Trelease at (202) 208-2783, or electronically to jtrelease@osmre.gov.

SUPPLEMENTARY INFORMATION: The Office of Management and Budget (OMB) regulations at 5 CFR 1320, which implement provisions of the Paperwork Reduction Act of 1995 (Pub. L. 104-13), require that interested members of the public and affected agencies have an opportunity to comment on information collection and recordkeeping activities [see 5 CFR 1320.8(d)]. OSM has submitted requests to OMB to renew its approval for the collections of information for 30 CFR 872, Abandoned mine reclamation funds; and 30 CFR 955 and the Form OSM-74, Certification of Blasters in Federal program States and on Indian lands. OSM is requesting a 3-year term of approval for these information collection activities.

An agency may not conduct or sponsor, and a person is not required to respond to, a collection of information unless it displays a currently valid OMB control number. The OMB control numbers for these collections of information are listed in 30 CFR 872.10, which is 1029-0054; and on the form OSM-74 and in 30 CFR 955.10, which is 1029 0083.

As required under 5 CFR 1320.8(d), Federal Register notices soliciting comments on these collections of information were published on March 19, 2008 (73 FR 14838), for 30 CFR 872, and on March 31, 2008 (73 FR 16908), for the form OSM-74 and 30 CFR 955. No comments were received from either notice. This notice provides the public with an additional 30 days in which to comment on the following information collection activities:

Title: 30 CFR Part 872—Abandoned mine reclamation funds.

OMB Control Number: 1029-0054.

Summary: 30 CFR part 872 establishes a procedure whereby States and Indian tribes submit written statements announcing the State/Tribe's decision not to submit reclamation plans, and therefore, will not be granted AML funds.

Bureau Form Number: None.

Frequency of Collection: Once.

Description of Respondents: State and Tribal abandoned mine land reclamation agencies.

Total Annual Responses: 1.

Total Annual Burden Hours: 1.

Title: 30 CFR Part 955 and Form OSM-74—Certification of blasters in Federal program States and on Indian lands.

OMB Control Number: 1029-0083.

Summary: This information is being collected to ensure that the applicants for blaster certification are qualified. This information, with blasting tests, will be used to determine the eligibility of the applicant. The affected public will be blasters who want to be certified by the Office of Surface Mining Reclamation and Enforcement to conduct blasting on Indian lands or in Federal primacy States.

Bureau Form Number: OSM-74.

Frequency of Collection: On occasion.

Description of Respondents: Individuals intent on being certified as blasters in Federal program States and on Indian lands.

Total Annual Responses: 8.

Total Annual Burden Hours: 18.

Total Annual Non-Wage Burden Cost: $549.

Send comments on the need for the collection of information for the performance of the functions of the agency; the accuracy of the agency's burden estimates; ways to enhance the quality, utility and clarity of the information collection; and ways to minimize the information collection burden on respondents, such as use of automated means of collection of the information, to the addresses listed under ADDRESSES. Please refer to the appropriate OMB control number in all correspondence, 1029-0054 for 30 CFR part 872 and 1029-0083 for 30 CFR part 955 and the OSM-74 form.

Before including your address, phone number, e-mail address, or other personal identifying information in your comment, you should be aware that your entire comment—including your personal identifying information—may be made publicly available at any time. While you can ask us in your comment to withhold your personal identifying information from public review, we cannot guarantee that we will be able to do so.

Dated: June 5, 2008.
John R. Craynon,
Chief, Division of Regulatory Support.

[FR Doc. E8-14212 Filed 6-24-08; 8:45 am]

BILLING CODE 4310-05-M